Title 3—

The President

Proclamation 9695 of January 31, 2018

American Heart Month, 2018

By the President of the United States of America

A Proclamation

More than 600,000 Americans die of heart disease each year, making it the leading cause of death for both men and women in the United States. In addition to remembering our lost loved ones, American Heart Month is a time to raise awareness about the risk factors, warning signs, and symptoms associated with this killer disease. This February, we renew our commitment to the battle against cardiovascular disease. With the help of our Nation's leading medical professionals and appropriate preventative measures, we hope for a future where heart disease no longer claims the lives of so many American men and women.

Thanks to ongoing advancements, medical procedures to treat heart conditions are now more precise and less invasive, recoveries are faster, and complications are fewer. We also now better understand conditions that increase the risk of heart disease among older adults—such as high blood pressure, high cholesterol, and type 2 diabetes—and more effective therapies and medications to prevent and treat them. And, we are better able to identify warning signs at an early stage.

Even with these encouraging developments, nearly half of all Americans between ages 45 and 65 have heart disease or a related condition. The risk of heart disease increases with age, so for most people, prevention is the best deterrent. People should also understand that they may be subject to unique risk factors, often based on family history, which may require them to take appropriate, targeted preventative measures. Whatever risk factors they may face, there are many steps people can take to make coronary disease less likely. The most effective are eating a healthy diet, staying physically active, maintaining a healthy body weight, controlling blood pressure and cholesterol, and not smoking.

During our observance of American Heart Month, we remember those we have lost to heart attacks and other cardiovascular diseases. We honor healthcare providers and medical researchers who strive to advance both the treatment and prevention of this epidemic. And we encourage all Americans to commit to taking charge of their heart health, this month and every month.

In acknowledgement of the importance of the ongoing fight against cardiovascular disease, the Congress, by Joint Resolution approved on December 30, 1963, as amended (36 U.S.C. 101), has requested that the President issue an annual proclamation designating February as American Heart Month.

NOW, THEREFORE, I, DONALD J. TRUMP, President of the United States of America, do hereby proclaim February 2018 as American Heart Month. The First Lady and I encourage all Americans to participate in National Wear Red Day on February 2, 2018, to raise awareness and reaffirm our commitment to fighting heart disease. I also invite the Governors of the States, the Commonwealth of Puerto Rico, officials of other areas subject to the jurisdiction of the United States, and the American people to join me in recognizing and reaffirming our commitment to fighting cardiovascular disease.

IN WITNESS WHEREOF, I have hereunto set my hand this thirty-first day of January, in the year of our Lord two thousand eighteen, and of the Independence of the United States of America the two hundred and forty-second.

[FR Doc. 2018-02430

Filed 2-2-18; 11:15 am]

Billing code 3295-F8-P